DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: February 16, 2012, 10 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

978th—Meeting

Regular Meeting

February 16, 2012, 10 a.m.

Item No. | Docket No. | Company
Administrative
A-1 | AD02-1-000 | Agency Business Matters.
A-2 | AD02-7-000 | Customer Matters, Reliability, Security and Market Operations.
Electric
E-1 | OMITTED |
E-2 | RM11-14-000 | Analysis of Horizontal Market Power under the Federal Power Act.
E-3 | AD10-11-001, RM11-7-001 | Frequency Regulation Compensation in the Organized Wholesale Power Markets.
E-4 | RC11-6-000, RC12-1-000, RC12-2-000, RC12-6-000, RC12-7-000 | North American Electric Reliability Corporation.
E-5 | EL11-22-001, QF11-115-002, QF11-116-002, QF11-117-002, QF11-118-002, QF11-119-002, QF11-120-002, QF11-121-002, QF11-122-002, QF11-123-002, QF11-124-002 | OREG 1, Inc., OREG 2, Inc., OREG 3, Inc., and OREG 4, Inc.
E-6 | ER08-194-000, ER08-194-001, ER08-194-002, ER08-194-003, ER08-194-004 | Duquesne Light Company.
| ER08-1235-000, ER08-1235-001, ER08-1309-000, ER08-1370-000 | Midwest Independent Transmission System Operator, Inc. and Duquesne Light Company.
| ER08-1339-000, ER08-1339-001, ER08-1339-002, ER08-1345-000, ER08-1345-001, ER08-1345-002 | PJM Interconnection, L.L.C.
E-7 | ER11-3616-000, ER11-3616-001, ER11-3616-002 | California Independent System Operator Corporation.
E-8 | ER11-2256-000, ER11-2256-002 | California Independent System Operator Corporation.
E-9 | RC08-5-001 | U.S. Department of Energy, Portsmouth/Paducah Project Office.
E-10 | ER08-386-001, ER08-386-002 | Potomac-Appalachian Transmission Highline, LLC.
E-11 | EL10-71-000 | Puget Sound Energy, Inc.
E-12 | RM11-9-000 | Locational Exchanges of Wholesale Electric Power.
Gas
G-1 | RM96-1-037 | Standards for Business Practices for Interstate Natural Gas Pipeline.
G-2 | RP09-487-000, RP10-307-000 | High Island Offshore System, L.L.C.
G-3 | OR12-1-000, OR12-2-000, OR12-3-000 | Chevron Products Company v. SFPP, L.P., ConocoPhillips Company v. SFPP, L.P., Tesoro Refining and Marketing Company v. SFPP, L.P.
Hydro
H-1 | P-13351-002 | Marseilles Land and Water Company.
H-2 | P-4632-035 | Commissioners of Public Works of the City of Spartanburg, South Carolina.

Dated: February 9, 2012.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at (703) 993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-3656 Filed 2-13-12; 4:15 pm]

BILLING CODE 6717-01-P